DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Methamphetamine Abuse Treatment—Special Studies (MAT-SS)

New—The Methamphetamine Abuse Treatment—Special Studies (MAT-SS) project is a family of coordinated studies funded by SAMHSA's Center for Substance Abuse Treatment (CSAT) that will serve as a follow-up to the CSAT Methamphetamine Treatment Project (MTP). The MTP was conducted to compare the outcomes of the Matrix Model of methamphetamine treatment with Treatment-as-Usual in and across multiple treatment sites, and to assess the feasibility and outcomes generated by a technology transfer of the Matrix Model. Participants included 150 methamphetamine dependent clients recruited at each treatment site who were randomly assigned to one of the treatment conditions. Participants, diverse in demographic characteristics, and in individual and environmental circumstances, were evaluated at admission, weekly during treatment, at discharge, and at 6 and 12 months after treatment admission. Participating treatment sites include eight programs in seven geographical areas: Billings, Montana; Honolulu, Hawaii; and Concord, Costa Mesa, San Diego, Hayward, and San Mateo, California.

The family of studies included in the MAT-S project will address diverse issues associated with the phenomena of methamphetamine dependence. The Multi-Year Methamphetamine Treatment Follow-up Study will assess the long-term outcome and functioning of individuals who previously participated in treatment for methamphetamine dependence. The study will utilize a 36-month post-intake, face-to-face, one-on-one structured interview. Multiple measures typically utilized in substance abuse research with established psychometric properties will be employed to assess the longitudinal course of methamphetamine dependence and its consequences. A randomly selected sample of follow-up participants will also be interviewed to collect medical, neurological, and psychiatric data. The Adherence to Manualized Treatment Protocols Over Time Study will assess issues associated with the adoption of the Matrix Model of treatment and/or Matrix treatment components after the formal MTP study period has ended, specifically addressing adherence to the manualized treatment protocol. Interviews of both staff and clients will utilize a semi-structured, face-to-face format. Finally, The Cost Analysis of Outpatient Methamphetamine Treatment Study will evaluate the cost effectiveness of both the Matrix and Treatment-as-Usual treatment conditions in each treatment site. Two data collection methods will be utilized and to collect information from both administrator interviews and review of administrative and financial records.

The conceptual underpinning of the MAT-SS project is a recognition by SAMHSA and leading experts in the field that escalating methamphetamine abuse nationwide necessitates a longitudinally focused investigation addressing the process, nature, and consequences of methamphetamine dependence. The overall goals of the MAT-SS project are to document the longitudinal process of addiction and recovery in methamphetamine-dependent individuals, ascertain the feasibility and success of implementing a manualized treatment protocol in community-based treatment settings, and evaluate the cost effectiveness of various treatments for methamphetamine dependence. The following table summarizes the burden for this project.

| Number of respondents | Responses per respondent | Hours per response | Total burden hours
Follow-up client interviews | 1,016 | 1 | 3.0 | 3,048
Follow-up interviews/exams | 508 | 1 | 2 | 1,016
Treatment adherence interviews | 144 | 2 | 1.5 | 432
Cost analysis interviews | 20 | 2 | 1.5 | 50
Cost analysis document review | 8 | 2 | 6 | 96
Total | 1,188 |  |  | 4,642
Annual average | 396 |  |  | 1,547

Send comments to Nancy Pearce, SAMHSA Reports Clearance Officer, Room 16-105, Parklawn Building, 5600 Fishers Lane, Rockville, MD 20857. Written comments should be received within 60 days of this notice.

Dated: November 8, 2001.
Richard Kopanda,
Executive Officer, SAMHSA.

[FR Doc. 01-28808 Filed 11-16-01; 8:45 am]

BILLING CODE 4162-20-P